NUCLEAR REGULATORY COMMISSION

10 CFR Part 51

[NRC-2008-0608]

RIN 3150-AI42

Revisions to Environmental Review for Renewal of Nuclear Power Plant Operating Licenses

AGENCY: Nuclear Regulatory Commission.

ACTION: Proposed rule: Extension of comment period.

SUMMARY: On July 31, 2009, the Nuclear Regulatory Commission (NRC) published a proposed rule for public comment that would amend its environmental protection regulations by updating the NRC's 1996 findings on the environmental impacts related to the renewal of operating licenses for nuclear power plants. The NRC stated that it intends to review the assessment of impacts and update it on a 10-year cycle, if necessary. The proposed rule redefines the number and scope of the environmental impact issues that must be addressed by the NRC in conjunction with the review of applications for nuclear power facility license renewal. As part of this 10-year update, the NRC revised the 1996 Generic Environmental Impact Statement (GEIS) for License Renewal of Nuclear Plants. Concurrent with the amendments described in this proposed rule, the NRC published for comment the revised GEIS and a revised Environmental Standard Review Plan (ESRP), Standard Review Plans for Environmental Reviews for Nuclear Power Plants, Supplement 1: Operating License Renewal, (74 FR 38239), and a revised Regulatory Guide (RG) 4.2, Supplement 1 Preparation of Environmental Reports for Nuclear Power Plant License Renewal Applications (74 FR 38238). A 75-day comment period was provided for the proposed rule, associated guidance documents, and information collection analysis that would have expired on October 14, 2009.

The proposed rule, regulatory analysis, related guidance documents (including the GEIS, ESRP, and Regulatory Guide), and the information collection analysis comment submittal deadline is extended from the original October 14, 2009 deadline to January 12, 2010.

DATES: The comment period for the proposed rule, regulatory analysis, related guidance documents, and information collection analysis has been extended by 90 days and now expires on January 12, 2010. Comments received after this date will be considered if it is practical to do so, but the Commission is able to ensure consideration only for comments received before this date.

ADDRESSES: Comments may be submitted by letter or electronic mail and will be made available for public inspection. Because comments will not be edited to remove any identification or contact information, such as name, addresses, telephone number, e-mail address, etc., the NRC cautions against including any personal information in your submissions that you do not want to be publicly disclosed. The NRC requests that any party soliciting on aggregating comments received from other persons for submission to the NRC inform these persons that the NRC will not edit their comments to remove any identifying or comment information, and therefore, they should not include any information in their comments that they do not want publicly disclosed.

Federal eRulemaking Portal: Go to http://www.regulations.gov and search for documents filed under Docket ID [NRC-2008-0608]. Address questions about NRC dockets to Carol Gallagher (301)-492-3668; e-mail Carol.Gallager@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments; contact us directly at (301)-415-1677.

Fax comments to: Secretary, U.S. Nuclear Regulatory Commission at (301)-415-1101.

Publicly available documents related to this rulemaking may be accessed using the following methods:

NRC's Public Document Room (PDR): Publicly available documents may be examined at the NRC's PDR, Public File Area O1-F21, One White Flint North, 11555 Rockville Pike, Rockville, Maryland. The PDR reproduction contractor will copy documents for a fee.

NRC's Agencywide Document Access and Management System (ADAMS): Publicly available documents created or received at the NRC are available electronically at the NRC's Electronic Reading Room at http://www.nrc.gov/reading-rm/adams.html. From this link, the public can gain entry into ADAMS, which provides text and image files of NRC's public documents. If problems are encountered accessing documents in ADAMS, contact the NRC's PDR reference staff at (800)-397-4209, or (301)-415-4737, or by e-mail to PDR.resource@nrc.gov.

FOR FURTHER INFORMATION CONTACT: Mr. Jason Lising, Office of Nuclear Reactor Regulation, U.S. Nuclear Regulatory Commission, Washington, DC 20555-0001; telephone (301)-415-3220; e-mail: Jason.Lising@nrc.gov; or Mr. Jeffrey Rikhoff, Office of Nuclear Reactor Regulation, U.S. Nuclear Regulatory Commission, Washington, DC 20555-0001; telephone (301)-415-1090; e-mail: Jeffrey.Rikhoff@nrc.gov.

SUPPLEMENTARY INFORMATION: During the period of July 31-September 11, 2009, the NRC received three letters requesting that the comment period for the proposed rulemaking be extended. One of the requests was for an extension of 61 days for a total of 136 days. The other two requests were for an extension of 90 days for a total of 165 days. The requestors stated various reasons to support their request (listed below):

(1) The related documents are voluminous (over 1,400 pages). Stakeholders should be given a more reasonable amount of time to properly analyze and develop meaningful comments.

(2) The proposed amendments and guidance documents cover many significant legal, regulatory, and policy issues related to a well-established licensing process that will require extensive review.

(3) The proposed rule attempts to update 13-year old findings related to environmental reviews for nuclear power plant license renewals. Therefore, ample time is needed to thoroughly review the NRC's update to determine whether the proposed modifications accurately reflect the new environmental landscape that has developed over the last 13 years.

(4) After the first 10-year review cycle ended in 2006, the NRC has had three years to formulate the proposed changes. A 75-day comment period is not sufficient to review and comment on these proposed amendments to regulations and voluminous associated guidance documents.

(5) The NRC has scheduled a series of four public meetings that will occur throughout the second half of September, as well as an additional public meeting on October 1, 2009. Extending the comment period will allow stakeholders to use information presented at these public meetings to provide the agency with more comprehensive and meaningful comments.

(6) Additional meetings are requested for the public to provide comments.

The NRC wants the public to have sufficient time to provide the agency with constructive comments that will improve the quality of these regulations as well as the license renewal process. The NRC recognizes the quantity of information to be reviewed and is extending the comment period for the proposed rulemaking, related guidance documents, and information collection analysis for an additional 90 days. Based on feedback from stakeholders, the NRC believes that a 90-day extension will allow sufficient time for all stakeholders to develop and provide meaningful comments on these documents.

The proposed rule, regulatory analysis, related guidance documents (including the GEIS, ESRP, and Regulatory Guide), and information collection analysis comment submittal deadline is extended from the original October 14, 2009, deadline to January 12, 2010.

Dated at Rockville, Maryland, this 1st day of October 2009.
For the Nuclear Regulatory Commission.
Annette L. Vietti-Cook,
Secretary of the Commission.

[FR Doc. E9-24153 Filed 10-6-09; 8:45 am]

BILLING CODE 7590-01-P